DEPARTMENT OF TRANSPORTATION

Federal Motor Carrier Safety Administration

[Docket No. FMCSA-2001-9664]

Drug Test Results Study

AGENCY: Federal Motor Carrier Safety Administration (FMCSA), DOT.

ACTION: Notice; request for comments.

SUMMARY: The Motor Carrier Safety Improvement Act of 1999 (MCSIA) directed the Federal Motor Carrier Safety Administration (FMCSA) to conduct a study and report to the Congress on the feasibility and merits of requiring Medical Review Officers and employers to report verified positive drug test results for CDL drivers to the State that issued the driver's license. The FMCSA is initiating a study on this issue and invites public comments on issues relating to the potential impact on all affected parties of implementing this potential requirement.

DATES: Please submit comments on or before August 8, 2001.

ADDRESSES: Mail or hand deliver comments to the U.S. Department of Transportation, Dockets Management Facility, Room PL-401, 400 Seventh Street, SW., Washington, DC 20590, or submit electronically at http://dmses.dot.gov/submit. Please specify the number you are commenting on before listing your comments. All comments received will be available for examination and copying at the above address between 9 a.m. and 5 p.m., et., Monday through Friday, except Federal holidays. Those desiring notification of receipt of comments must include a self-addressed, stamped envelope or postcard or you may print the acknowledgment page that appears after submitting comments electronically.

FOR FURTHER INFORMATION CONTACT: For information about the status of this Notice, you may contact Ms. Kaye Kirby, Office of Bus and Truck Standards and Operations, (202) 366-3109; for information about legal issues related to this notice, Mr. Michael Falk, Office of the Chief Counsel, (202) 366-1384, FMCSA, Department of Transportation, 400 Seventh Street, SW., Washington, DC 20590. Office hours are from 7:45 a.m. to 4:15 p.m., e.t., Monday through Friday, except Federal holidays.

SUPPLEMENTARY INFORMATION:

Electronic Access

You may see all the comments on the Document Management System (DMS) website at: http://dmses.dot.gov.

Background

Section 226 of the Motor Carrier Safety Improvement Act of 1999 (MCSIA) (Public Law 106-159, 113 Stat. 1748) requires the Secretary of Transportation to conduct a study of the feasibility and merits of requiring Medical Review Officers or employers to report all verified positive controlled substances test results on any driver subject to controlled substances testing in 49 CFR part 382 to the State where the driver is licensed. In addition to the reporting requirement, this potential provision would require prospective employers to query the State that issued the CDL to determine if the State had any record of a verified positive drug test on such driver before hiring any driver. The MCSIA further required the Secretary to report on the study, together with any recommendations the Secretary determines appropriate, to Congress no later than two years after enactment of the law.

In carrying out this study, Congress directed the Secretary to conduct an assessment to identify methods for safeguarding the confidentiality of verified drug test results. In addition, the Secretary was asked to examine the costs, benefits, and safety impacts of requiring States to maintain records of verified positive drug test results; and whether a process should be established to allow drivers to correct errors in their records and to expunge information from their records after a reasonable period of time.

Comments and suggestions are invited concerning the feasibility, and merits of employers and Medical Review Officers reporting positive drug test results to the State that issued the driver's CDL and the burden imposed by such a reporting requirement on the employers, State, and others. Of concern are operational, legal, confidentiality, and financial issues as well as the type of database, database access, and database management that would be required.

Comments

Comments are requested specifically on the following questions:

(1) What impact would this requirement have on the motor carrier industry, drivers, Medical Review Officers, safety advocates, the States and other interested parties?

(2) What would be the benefits, costs, and safety impacts of requiring States to maintain records of verified positive drug test results?

(3) How would such a national record-keeping system safeguard the confidentiality of verified drug test results? What systems or methodology could do so?

(4) Should a process be established to allow drivers to correct errors in their records and to expunge information from their records after a reasonable period of time? What would be considered a reasonable period of time? What documentation would be adequate to justify expunging such a record?

(5) What are the potential costs involved in implementing this program for each State?

(6) What are the benefits of having verified positive drug test results housed in a database so that each prospective employer would be required before hiring any driver to query the State that issued the commercial drivers license (CDL)? What are the disadvantages?

(7) What type of database should be used? Under what conditions should the information be released? Who should have access to this information?

(8) Who should own and/or house the database?

(9) Should the database be centralized or distributed at the State level?

(10) How could we safeguard the confidentiality of verified drug test results?

(11) Are there States that currently have a program in place where verified positive drug test results are submitted to them? If so, what are their experiences and challenges?

Authority: 49 U.S.C. 31306; sec. 226, Pub. L. 106-159, 113 Stat. 1748; and 49 CFR 1.73.

Issued on: July 2, 2001
Brian M. McLaughlin,
Acting Deputy Administrator.

[FR Doc. 01-17099 Filed 7-6-01; 8:45 am]

BILLING CODE 4910-EX-P